DEPARTMENT OF HEALTH AND HUMAN SERVICES

Centers for Disease Control and Prevention

[30Day-45-04]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: Coal Workers' X-ray Surveillance Program (CWXSP), OMB No. 0920-0020—Extension—National Institute for Occupational Safety and Health (NIOSH), Centers for Disease Control and Prevention (CDC).

Background

The CWXSP is a federally mandated program under the Federal Mine Safety and Health Act of 1977, PL-95-164. The Act provides the regulatory authority for the administration of the CWXSP, a surveillance program to protect the health and safety of underground coal miners. This Program requires the gathering of information from coal mine operators, participating miners, participating x-ray facilities, and participating physicians. The Appalachian Laboratory for Occupational Safety and Health (ALOSH), located in Morgantown, WV, is charged with administration of this Program. The estimated annualized burden is 1246 hours.

Respondents | Form name and no. | Number of respondents | Number of responses/respondent | Average burden/response (in hrs)
Physicians (B Readers) | Roentgen graphic Interpretation Form CDC/NIOSH (M)2.8 | 5,000 | 1 | 3/60
Miners | Miner Identification Document CDC/NIOSH (M)2.9 | 2,500 | 1 | 20/60
Coal Miners Operators | Coal Mine Operator's Plan-CDC/NIOSH (M)2.10 | 200 | 1 | 30/60
Supervisors at X-ray Facilities | Facility Certifications Document-CDC/NIOSH (M)2.11 | 25 | 1 | 30/60
Physicians (B Readers) | Interpreting Phisician Certification Document CDC/NIOSH (M)2.12 | 300 | 1 | 10/60

Dated: April 16, 2004.
Bill J. Atkinson,
Acting Director, Management Analysis and Services Office, Centers for Disease Control And Prevention.

[FR Doc. 04-9235 Filed 4-22-04; 8:45 am]

BILLING CODE 4163-18-P